ENVIRONMENTAL PROTECTION AGENCY

[FRL-9086-5; Docket ID No. EPA-HQ-ORD-2009-0857]

ICLUS SERGoM v3 User's Manual: ArcGIS Tools and Datasets for Modeling U.S. Housing Density Growth

AGENCY: Environmental Protection Agency (EPA).

ACTION: Notice of public comment period.

SUMMARY: EPA is announcing a 30-day public comment period for the draft tool and its documentation titled, “ICLUS SERGoM v3 User's Manual: ArcGIS Tools and Datasets for Modeling US Housing Density Growth” (EPA/600/R-09/143). The tool and its documentation were prepared by the National Center for Environmental Assessment within EPA's Office of Research and Development. This draft tool and its documentation can be used to vary housing density and other allocation assumptions used to run land use scenarios for the conterminous US. ICLUS stands for Integrated Climate and Land Use Scenarios, a project which is described in the 2009 EPA Report, “Land-Use Scenarios: Nation-Scale Housing-Density Scenarios Consistent with Climate Change Storylines.” These scenarios are broadly consistent with global-scale, peer-reviewed storylines of population growth and economic development, which are used by climate change modelers to develop projections of future climate. SERGoM is the Spatially Explicit Growth Model used to allocate housing on the landscape in the GIS environment. This tool and User's Guide enable users to run SERGoM with the population projections developed for the ICLUS project and allow users to modify the spatial allocation of housing density across the landscape.

The public comment period and the external peer usability review, which will occur after the public comment period, are separate processes that provide opportunities for all interested parties to comment on the document. EPA intends to forward the public comments that are submitted in accordance with this notice to the external peer reviewers prior to their review for their consideration. When finalizing the draft document, EPA intends to consider any public comments that EPA receives in accordance with this notice.

EPA is releasing this draft tool and its documentation solely for the purpose of pre-dissemination peer review under applicable information quality guidelines. This tool and its documentation have not been formally disseminated by EPA. It does not represent and should not be construed to represent any Agency policy or determination.

DATES: The 30-day public comment period begins December 8, 2009, and ends January 7, 2010. Technical comments should be in writing and must be received by EPA by January 7, 2010.

ADDRESSES: The draft Geographic Information System (GIS) tool and its documentation, “ICLUS SERGoM v3 User's Manual: ArcGIS Tools and Datasets for Modeling US Housing Density Growth” are available primarily via the Internet on the National Center for Environmental Assessment's home page under the Recent Additions menu at http://www.epa.gov/ncea. A limited number of paper copies of the User's Guide are available from the Information Management Team, NCEA; telephone: 703-347-8561; facsimile: 703-347-8691. If you are requesting a paper copy, please provide your name, your mailing address, and the document title, “ICLUS SERGoM v3 User's Manual: ArcGIS Tools and Datasets for Modeling US Housing Density Growth.”

Comments may be submitted electronically via http://www.regulations.gov, by mail, by facsimile, or by hand delivery/courier. Please follow the detailed instructions provided in the SUPPLEMENTARY INFORMATION section of this notice.

FOR FURTHER INFORMATION CONTACT: For information on the public comment period, contact the Office of Environmental Information Docket; telephone: 202-566-1752; facsimile: 202-566-1753; or e-mail: ORD.Docket@epa.gov.

For technical information, contact Britta Bierwagen, NCEA; telephone: 703-347-8613; facsimile: 703-347-8694; or e-mail: bierwagen.britta@epa.gov.

SUPPLEMENTARY INFORMATION:

I. Information About the Project/Document

The GIS tool and its documentation, “ICLUS SERGoM v3 User's Manual: ArcGIS Tools and Datasets for Modeling US Housing Density Growth,” enable users to run SERGoM with the population projections developed for the ICLUS project and allow users to modify the spatial allocation of housing density across the landscape. The data provided from the ICLUS project consist of five population scenarios by county for the conterminous US and are available in 5-year increments from 2000 to 2100. The population projections for each US county drive the production of new housing units, which are allocated in response to the spatial pattern of previous growth (e.g., 1990 to 2000), transportation infrastructure, and other basic assumptions. The housing allocation model recomputes housing density in 10-year time steps.

The GIS tool allows users to:

• Replace the ICLUS projected population values to reflect different growth rate assumptions;

• customize housing density patterns by altering household size and travel time assumptions;

• summarize patterns by region, watershed, county, or NLCD 2001 land cover classes;

• reclassify housing density into classes different than those already provided; and

• generate a map of estimated impervious surface based on a housing density map.

II. How To Submit Technical Comments to the Docket at http://www.regulations.gov

Submit your comments, identified by Docket ID No. EPA-HQ-ORD 2009-0857, by one of the following methods:

• http://www.regulations.gov: Follow the online instructions for submitting comments.

• E-mail: ORD.Docket@epa.gov.

• Fax: 202-566-1753.

• Mail: Office of Environmental Information (OEI) Docket (Mail Code: 2822T), U.S. Environmental Protection Agency, 1200 Pennsylvania Ave., NW., Washington, DC 20460. The phone number is 202-566-1752.

• Hand Delivery: The OEI Docket is located in the EPA Headquarters Docket Center, Room 3334, EPA West Building, 1301 Constitution Ave., NW., Washington, DC. The EPA Docket Center's Public Reading Room is open from 8:30 a.m. to 4:30 p.m., Monday through Friday, excluding legal holidays. The telephone number for the Public Reading Room is 202-566-1744. Such deliveries are only accepted during the docket's normal hours of operation, and special arrangements should be made for deliveries of boxed information.

If you provide comments by mail or hand delivery, please submit three copies of the comments. For attachments, provide an index, number pages consecutively with the comments, and submit an unbound original and three copies.

Instructions: Direct your comments to Docket ID No. EPA-HQ-ORD-2009-0857. Please ensure that your comments are submitted within the specified comment period. Comments received after the closing date will be marked “late,” and may only be considered if time permits. It is EPA's policy to include all comments it receives in the public docket without change and to make the comments available online at http://www.regulations.gov, including any personal information provided, unless a comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: Documents in the docket are listed in the www.regulations.gov index. Although listed in the index, some information is not publicly available, such as CBI or other information whose disclosure is restricted by statute. Certain other materials, such as copyrighted material, are publicly available only in hard copy. Publicly available docket materials are available either electronically in http://www.regulations.gov or in hard copy at the OEI Docket in the EPA Headquarters Docket Center.

Dated: November 19, 2009.
Rebecca Clark,
Acting Director, National Center for Environmental Assessment.

[FR Doc. E9-29218 Filed 12-7-09; 8:45 am]

BILLING CODE 6560-50-P